DEPARTMENT OF HEALTH AND HUMAN SERVICES

Centers for Disease Control and Prevention

[Program Announcement 04004]

Agency for Toxic Substances and Disease Registry; Public Health Conference Support Grant Program; Notice of Availability of Funds—Amendment

A notice announcing the availability of fiscal year 2004 funds for grants to support public health conferences was published in the Federal Register on August 28, 2003, Volume 68, Number 167, pages 51781-51785. The notice is amended as follows:

Page 51781, third column, under Application Deadline: delete “Cycle C: June 1, 2004.”

Page 51784, first column, Section H. “Submission and Deadline,” paragraph 2, delete the first sentence. Replace with, “There will be two conference support reviews this year.”

Paragraph 4, should be changed to read, “* * * between August 1, 2004 and September 30, 2005 * * *”

Delete Paragraph 5.

Under subtitle “Letter of Intent Due Dates”, lines 5 and 6, Cycle B: January 6, 2004 should be changed to read, “For conferences August 1, 2004-September 30, 2005.”

Delete lines 7, 8, and 9.

Lines 10-12 should be changed to read, “Letter of Intent (LOI) Submission: On or before October 1, 2003, and January 6, 2004 submit an original and two signed copies * * *”

Page 51784, second column, under paragraph 1, in block 1, “Application due dates,” delete “Cycle C: June 1, 2004”; in block 2, “Earliest possible award dates,” delete “September 1, 2004.”

In paragraph 2, under Application Submission, line 2, should be changed to read, “On or before November 19, 2003 and March 8, 2004 submit an original and two * * *”

Dated: December 11, 2003.
Edward Schultz,
Acting Director, Procurement and Grants Office, Centers for Disease Control and Prevention.

[FR Doc. 03-31077 Filed 12-16-03; 8:45 am]

BILLING CODE 4163-18-P